DEPARTMENT OF COMMERCE

National Oceanic and Atmospheric Administration

[I.D. 081700D]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Advisory Panel (AP) Selection Committee (closed), Shrimp Committee, Controlled Access Committee, Snapper Grouper Committee, Habitat Committee, Marine Reserves Committee, Dolphin Wahoo Committee and a joint meeting of the Executive and Finance Committees. Public comment periods will be held on the proposed Dolphin Wahoo Fishery Management Plan (FMP) and the Bycatch Reduction Device (BRD) Testing Protocol Manual. There will also be a Council Session.

DATES: The meetings will be held from September 18-22, 2000. See SUPPLEMENTARY INFORMATION for specific dates and times.

ADDRESSES: The meetings will be held at the Town & Country Inn, 2008 Savannah Highway, Charleston, SC 29407; telephone: (843) 571-1000 or 1-800-334-6660.

Council address: South Atlantic Fishery Management Council, One Southpark Circle, Suite 306; Charleston, SC 29407-4699.

FOR FURTHER INFORMATION CONTACT: Kim Iverson, Public Information Officer; telephone: (843) 571-4366; fax: (843) 769-4520; email: kim.iverson@noaa.gov

SUPPLEMENTARY INFORMATION:

Meeting Dates

September 18, 2000, 1:30 p.m.-3:30 p.m.—Joint Executive/Finance Committee Meeting;

The Executive and Finance Committees will meet jointly to review an update on the CY (Calendar Year) 2000 budget, review and approve the proposed CY 2001 activities schedule, budget and Operations Plan. The committees will also discuss Atlantic Coastal Cooperative Statistic Program (ACCSP) funding.

September 18, 2000, 3:30 p.m.-5:00 p.m.—Advisory Panel Selection Committee (closed);

The Advisory Panel Selection Committee will meet to review membership applications and develop recommendations.

September 19, 2000, 8:30 a.m. to 10:00 a.m.—Shrimp Committee Meeting;

The Shrimp Committee will meet to develop recommendations on the revised NMFS BRD Protocol, review input from the Rock Shrimp AP and discuss controlled access for the rock shrimp fishery, develop recommendations for the Controlled Access Committee, review the proposal to use traps to fish for royal red shrimp in the Exclusive Economic Zone and develop a committee recommendation.

September 19, 2000, 10:00 a.m.-12:00 noon—Controlled Access Committee Meeting;

The Controlled Access Committee will meet to hear a presentation on vessel capacity issues and develop committee recommendations regarding vessel capacity issues. The Committee will also develop options for rock shrimp controlled access and provide direction to Council staff.

September 19, 2000, 1:30 p.m.-5:00 p.m.—Snapper Grouper Committee Meeting;

The Snapper Grouper Committee will meet and hear an update on Maximum Sustainable Yield and overfishing definitions, discuss the status of the red porgy assessment and projections peer review, and review the status of data available on the harvest of snapper grouper species with powerheads.

September 20, 2000, 8:30 a.m.-10:30 a.m.—Habitat Committee Meeting;

The Habitat Committee will meet to review and comment on permits as required, hear a report on the Habitat Advisory Panel meeting, discuss development of an ecosystem plan and discuss development of a beach renourishment policy.

September 20, 2000, 10:30 a.m.-12:00 noon, 1:30 p.m.-2:30 p.m.—Marine Reserves Committee Meeting;

The Marine Reserves Committee will meet to review informal meeting, public scoping meeting and Marine Reserves AP input and comments and develop recommendations to Council and staff, develop Committee recommendations on the Gray's Reef Memorandum of Understanding (MOU), develop Committee comments/recommendations on NMFS White Paper and discuss the closed area law suit in the Gulf of Mexico.

September 20, 2000, 2:30 p.m.-5:30 p.m.—Dolphin Wahoo Committee Meeting;

The Dolphin Wahoo Committee will meet to review comments on the Dolphin Wahoo FMP from the public hearings, written material received, advisory panel members and NMFS. The Committee will also review Gulf and Caribbean Council actions.

September 21, 2000, 8:30 a.m.-12:00 noon—Dolphin Wahoo Committee Meeting (continued);

The Dolphin Wahoo Committee will continue its meeting and develop final Committee recommendations on the Dolphin Wahoo Fishery Management Plan.

September 21, 2000, 1:30 p.m.-6:15 p.m.—Council Session;

From 1:30 p.m.-1:45 p.m., the Council will call the meeting to order, adopt the agenda and approve minutes from the June 2000 meeting.

From 1:45 p.m.-2:15 p.m., the Council will hold elections to decide on a new Chairman and Vice-Chairman and make presentations.

From 2:15 p.m.- 2:45 p.m., the Council will hear a Coast Guard presentation from Admiral Allen.

From 2:45 p.m.-3:15 p.m., the Council will consider a request from the South Carolina Aquarium for an extension of their Exempted Fisheries Permit (EFP).

From 3:15 p.m.-5:15 p.m., the Council will hold a public comment period regarding the Dolphin Wahoo FMP (beginning at 3:15 p.m.), hear a report from the Dolphin Wahoo Committee, finalize the FMP and approve it for submission to the Secretary of Commerce.

From 5:15 p.m.-5:45 p.m., the Council will hold a public comment period on the BRD Testing Protocol Manual (beginning at 5:15 p.m.), hear a report from the Shrimp Committee, finalize and approve the revised BRD Testing Protocol Manual and make a decision on the proposal to use traps to fish for royal red shrimp.

From 5:45 p.m.-6:15 p.m., the Council will hear a report from the Executive/Finance Committee, approve CY 2001 Activities Schedule, approve the CY 2001 budget and approve the Council Operations Plan.

September 22, 2000, 8:30 a.m.-12:30 p.m.—Council Session

From 8:30 a.m.-8:45 a.m., the Council will hear a report from the Advisory Panel Selection Committee and appoint new advisory panel members.

From 8:45 a.m.-9:00 a.m., the Council will hear a report from the Snapper Grouper Committee.

From 9:00 a.m.-9:30 a.m., the Council will hear a report from the Controlled Access Committee, make recommendations on vessel capacity issues and make a decision on proceeding with rock shrimp controlled access.

From 9:30 a.m.-9:45 a.m., the Council will hear a report from the Habitat Committee and consider permits as required.

From 9:45 a.m.-10:15 a.m., the Council will hear a report from the Marine Reserves Committee, take action on considering the Gray's Reef MOU, develop comments and recommendations on the NMFS White Paper and direct Council staff on how to proceed.

From 10:15 a.m.-10:45 a.m., the Council will hear a presentation on the Southeast Region's Permitting System.

From 10:45 a.m.-11:15 a.m., the Council will hear a report on the southeastern shark drift net fishery.

From 11:15 a.m.-11:30 a.m., the Council will hear an update on ACCSP.

From 11:30 a.m.-12:00 noon, the Council will hear updates on economic and social issues.

From 12:00 noon-12:30 p.m., the Council will hear NMFS Status Reports on 2000/2001 Mackerel Framework, Mackerel Amendment 12, Greater Amberjack trip limit resubmittal and Georgia Special Management Zones (SMZs). Council will also hear NMFS Status Reports on Landings for Atlantic king mackerel, Gulf king mackerel (eastern zone), Atlantic Spanish mackerel, Snowy grouper & Golden tilefish, wreckfish, greater amberjack and south Atlantic Octocorals.

From 12:30 p.m.-1:00 p.m., Council will hear agency and liaison reports and discuss other business and upcoming meetings.

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council's intent to take final action to address the emergency.

Special Accommodations

These meetings are physically accessible to people with disabilities. Requests for sign language interpretation or other auxiliary aids should be directed to the Council office (see ADDRESSES) by September 8, 2000.

Dated: August 17, 2000.
Richard W. Surdi,
Acting Director, Office of Sustainable Fisheries, National Marine Fisheries Service.

[FR Doc. 00-21683 Filed 8-23-00; 8:45 am]

BILLING CODE 3510-22-F